ENVIRONMENTAL PROTECTION AGENCY

[EPA-HQ-OPP-2015-0443; FRL-9941-23]

Pesticide Product Registration; Fluopyram Receipt of Applications for New Food Uses

AGENCY: Environmental Protection Agency (EPA).

ACTION: Notice.

SUMMARY: EPA has received applications to register pesticide products containing an active ingredient, fluopyram included in currently registered pesticide products. Pursuant to the Federal Insecticide, Fungicide, and Rodenticide Act (FIFRA), EPA is hereby providing notice of receipt and opportunity to comment on these applications.

DATES: Comments must be received on or before February 16, 2016.

ADDRESSES: Submit your comments, identified by docket identification (ID) number EPA-HQ-OPP-2015-0443 and the Registration Number of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing an active ingredient, fluopyram included in currently registered pesticide products. Pursuant to the provisions of FIFRA section 3(c)(4) (7 U.S.C. 136a(c)(4)), EPA is hereby providing notice of receipt and opportunity to comment on these applications. Notice of receipt of 264-1078; 264-1084; 264-1085; 264-1090; 264-1091(end-use); 264-1077 (technical).

Docket ID number: EPA-HQ-OPP-2015-0443. Applicant: Bayer CropScience, 2 T.W. Alexander Drive, Research Triangle Park, NC 27709. These applications do not imply a decision by the Agency on these applications. Active ingredient: Fluopyram. Product type: Fungicide.

Proposed uses: Artichoke, globe; aspirated grain fractions; peanut hay; hops; root vegetables, except beet, sugar, root, crop subgroup 1B; tuberous and corm vegetables, crop subgroup 1C; potato wet peel; vegetables, leaves of root and tuber, crop group 2; bulb vegetables, bulb onion (crop subgroup 3-07A); bulb vegetables, green onions (crop subgroup 3-07B); leafy greens (crop subgroup 4A), without spinach; leafy greens (crop subgroup 4A) spinach; leafy petioles subgroup, celery (crop subgroup 4B); brassica leafy vegetables: Head and stem (crop subgroup 5A); brassica leafy vegetables: Leafy greens (crop subgroup 5B); soybean forage; soybean hay; legume vegetables: Edible podded (crop subgroup 6A); legume vegetables: Succulent shelled peas and beans (crop subgroup 6B); legume vegetables: Dried shelled peas and beans (crop subgroup 6C); vegetable, foliage of legume vegetables, forage, hay and vines, forage (crop group 7); fruiting vegetables, tomato subgroup (crop subgroup 8-10A); fruiting vegetables, pepper/eggplant subgroup (crop subgroup 8-10B); cucurbit vegetables (crop group 9A), melon subgroup; cucurbit vegetables (crop group 9B), cucumber/squash subgroup; citrus fruits (crop group 10-10); citrus oil; pome fruit (crop group 11-10); stone fruit (crop group 12-12A), cherry subgroup; stone fruit (crop group 12-12B), peach subgroup; stone fruit (crop group 12-12C), plum subgroup; berries and small fruit: Caneberry (crop subgroup 13-07A); berries and small fruit: Bushberry (crop subgroup 13-07B); raisins at 4.0 ppm; berries and small fruit, small fruit vine climbing, except fuzzy kiwi (crop subgroup 13-07F); berries and small fruit: Low growing berry (crop subgroup 13-07G); sorghum, grain; wheat milled by-products; grass forage, fodder and hay: Forage (crop group 17); herb crop (subcrop group 19A); dill seed; herbs, dried; oilseeds, rapeseed, canola (crop subgroup 20A); oilseeds, sunflower, seed (crop subgroup 20B); oilseeds: Cottonseed (crop subgroup 20C); chicken, meat byproducts; chicken, fat; chicken, meat; goat, fat; goat, meat; sugarcane, cane (indirect or inadvertent residues).

Authority: 7 U.S.C. 136 et seq.

Dated: January 7, 2016.
Susan Lewis,
Director, Registration Division, Office of Pesticide Programs.

[FR Doc. 2016-00535 Filed 1-13-16; 8:45 am]

BILLING CODE 6560-50-P